DEPARTMENT OF EDUCATION

Submission for OMB Review; Comment Request

Correction

In notice document 01-25341 beginning on page 51647 in the issue of Wednesday, October 10, 2001, make the following correction:

On page 51648, in the first column, in the DATES: section, in the third line “ December 10, 2001 ” should read “November 9, 2001”.

[FR Doc. C1-25341 Filed 10-17-01; 8:45 am]

BILLING CODE 1505-01-D